DEPARTMENT OF THE INTERIOR

National Park Service

[N6685; NPS-WASO-NAGPRA-NPS0041425; PPWOCRADN0-PCU00RP14.R50000]

Notice of Intended Repatriation: Ball State University, Muncie, IN

AGENCY: National Park Service, Interior.

ACTION: Notice.

SUMMARY: In accordance with the Native American Graves Protection and Repatriation Act (NAGPRA), the Ball State University intends to repatriate a certain cultural item that meets the definition of an object of cultural patrimony and that has a cultural affiliation with the Indian Tribes or Native Hawaiian organizations in this notice.

DATES: Repatriation of the cultural item in this notice may occur on or after January 16, 2026.

ADDRESSES: Send additional, written requests for repatriation of the cultural item in this notice to Chyan Gilaspy, Ball State University, Applied Anthropology Laboratories, 2000 W Riverside Avenue, Muncie, IN 47306, email NAGPRA@bsu.edu.

SUPPLEMENTARY INFORMATION: This notice is published as part of the National Park Service's administrative responsibilities under NAGPRA. The determinations in this notice are the sole responsibility of the Ball State University and additional information on the determinations in this notice, including the results of consultation, can be found in the summary or related records. The National Park Service is not responsible for the determinations in this notice.

Abstract of Information Available

A total of one cultural item has been requested for repatriation. The one object of cultural patrimony is a beaded girl's dress. In 2018, the dress was bequeathed to BSU by a private donor who purchased the item in 1979 in South Dakota. A non-BSU tag found on the dress states, “Girl's Dress, Shoshone Tribe, Idaho, 1960”. There are no institutional records indicating the use of potentially hazardous substances used to treat this cultural item, however, requested XRF testing was positive for potentially hazardous substances.

Determinations

The Ball State University has determined that:

• The one object of cultural patrimony described in this notice have ongoing historical, traditional, or cultural importance central to the Native American group, including any constituent sub-group (such as a band, clan, lineage, ceremonial society, or other subdivision), according to the Native American traditional knowledge of an Indian Tribe or Native Hawaiian organization.

• There is a connection between the cultural item described in this notice and the Paiute-Shoshone Tribe of the Fallon Reservation and Colony, Nevada.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after January 16, 2026. If competing requests for repatriation are received, the Ball State University must determine the most appropriate requestor prior to repatriation. Requests for joint repatriation of the cultural item are considered a single request and not competing requests. The Ball State University is responsible for sending a copy of this notice to the Indian Tribes and Native Hawaiian organizations identified in this notice and to any other consulting parties.

Authority: Native American Graves Protection and Repatriation Act, 25 U.S.C. 3004 and the implementing regulations, 43 CFR 10.9.

Dated: November 24, 2025.
Melanie O'Brien,
Manager, National NAGPRA Program.

[FR Doc. 2025-23037 Filed 12-16-25; 8:45 am]

BILLING CODE 4312-52-P